SMALL BUSINESS ADMINISTRATION

National Small Business Development Center Advisory Board; Public Meeting

The U.S. Small Business Administration (SBA), National Small Business Development Center (SBDC) Advisory Board will be hosting a public annual meeting on Thursday, September 14, 2006. The meeting will be held at the Hilton Americas Hotel, 1600 Lamar Street, Room 203, Houston, Texas 77011.

The purpose of the meeting is to introduce our new board members and to discuss Advisory Board matters that may be presented by members and the staff of the SBA. Anyone wishing to attend the meeting must contact Erika Fischer, Senior Program Analyst, U.S. Small Business Administration, Office of Small Business Development Centers, 409 3rd Street, SW., Washington, DC 20416, telephone (202) 205-7045 or fax (202) 481-0681.

Stephen D. Kong,
Acting General Counsel.

[FR Doc. E6-13644 Filed 8-17-06; 8:45 am]

BILLING CODE 8025-01-P